ENVIRONMENTAL PROTECTION AGENCY

40 CFR Part 52

[EPA-R05-OAR-2021-0577; FRL-12588-01-R5]

Air Plan Approval; Michigan; Second Period Regional Haze Plan

AGENCY: Environmental Protection Agency (EPA).

ACTION: Proposed rule.

SUMMARY: The Environmental Protection Agency (EPA) is proposing to approve the Regional Haze State Implementation Plan (SIP) revision submitted by the Michigan Department of Environment, Great Lakes, and Energy (EGLE) on August 23, 2021, and supplemented on April 3, 2025, as satisfying applicable requirements under the Clean Air Act (CAA) and EPA's Regional Haze Rule (RHR) for the program's second implementation period. EGLE's SIP submission addresses the requirement that States must periodically revise their long-term strategies for making reasonable progress towards the national goal of preventing any future, and remedying any existing, anthropogenic impairment of visibility, including regional haze, in mandatory Class I Federal areas. The SIP submission also addresses other applicable requirements for the second implementation period of the regional haze program. EPA is taking this action pursuant to sections 110 and 169A of the CAA.

DATES: Comments must be received on or before July 18, 2025.

ADDRESSES: Submit your comments, identified by Docket ID No. EPA-R05-OAR-2021-0577 at https://www.regulations.gov, or via email to langman.michael@epa.gov. For comments submitted at Regulations.gov, follow the online instructions for submitting comments. Once submitted, comments cannot be edited or removed from the docket. EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI, PBI, or multimedia submissions, and general guidance on making effective comments, please visit https://www.epa.gov/dockets/commenting-epa-dockets.

FOR FURTHER INFORMATION CONTACT: Matt Rau, Air and Radiation Division (AR-18J), Environmental Protection Agency, Region 5, 77 West Jackson Boulevard, Chicago, Illinois 60604, (312) 886-6524, rau.matthew@epa.gov. The EPA Region 5 office is open from 8:30 a.m. to 4:30 p.m., Monday through Friday, excluding Federal holidays.

SUPPLEMENTARY INFORMATION: Throughout this document whenever “we,” “us,” or “our” is used, we mean EPA.

I. What action is EPA proposing?

A. What is parallel processing?

II. Background and Requirements for Regional Haze Plans

A. Regional Haze Background

B. Roles of Agencies in Addressing Regional Haze

III. Requirements for Regional Haze Plans for the Second Implementation Period

A. Long-Term Strategy for Regional Haze

B. Reasonable Progress Goals (RPGs)

C. Monitoring Strategy and Other SIP Requirements

D. Requirements for Periodic Reports Describing Progress Towards the RPGs

E. Requirements for State and Federal Land Manager Coordination

IV. EPA's Evaluation of EGLE's Regional Haze Submission for the Second Implementation Period

A. Background on EGLE's First Implementation Period SIP Submission

B. EGLE's Second Implementation Period SIP Submission and EPA's Evaluation

C. Identification of Class I Areas

D. Calculations of Baseline, Current, and Natural Visibility Conditions; Progress to Date; and the Uniform Rate of Progress

E. Long-Term Strategy for Regional Haze

1. Emission Measures Necessary To Make Reasonable Progress

2. EPA's Evaluation of EGLE's Compliance With 40 CFR 51.308(f)(2)(i)

F. RPGs

G. Monitoring Strategy and Other Implementation Plan Requirements

H. Requirements for Periodic Reports Describing Progress Towards the RPGs

I. Requirements for State and Federal Land Manager Coordination

V. Proposed Action

VI. Statutory and Executive Order Reviews

I. What action is EPA proposing?

On August 23, 2021, EGLE submitted a revision to its SIP to address regional haze requirements for the second implementation period. On April 3, 2025, EGLE submitted a supplement in draft for parallel processing. EGLE made this SIP submission to satisfy the requirements of the CAA's regional haze program pursuant to CAA sections 169A and 169B and 40 CFR 51.308. EPA proposes to find that the Michigan Regional Haze SIP submission for the second implementation period meets the applicable statutory and regulatory requirements. Thus, EPA proposes to approve EGLE's submission into its SIP.

A. What is parallel processing?

Consistent with EPA regulations found at 40 CFR part 51, appendix V, section 2.3.1, for purposes of expediting review of a SIP submission, parallel processing allows a State to submit a plan to EPA prior to final adoption by the State.

Generally, the State submits a copy of the proposed regulation or other revisions to EPA before conducting its public hearing. EPA reviews this proposed State action and prepares a notice of proposed rulemaking. EPA's notice of proposed rulemaking is published in the Federal Register during the same time frame that the State is holding its public process. The State and EPA then provide for concurrent public comment periods on both the State action and Federal action.

If the revision that is finally adopted and submitted by EGLE is changed in aspects other than those identified in the proposed rulemaking on the parallel process submission, EPA will evaluate those changes and if necessary and appropriate, issue another notice of proposed rulemaking. The final rulemaking action by EPA will occur only after the SIP revision has been adopted by the State and submitted formally to EPA for incorporation into the SIP.

On April 3, 2025, EGLE submitted a request for parallel processing of a draft SIP supplement that it has taken to public comment on March 10, 2025. EGLE requested parallel processing so that EPA can act on its Regional Haze SIP revision in advance of EGLE's submission of a SIP supplement. As stated previously, the final rulemaking action by EPA will occur only after the SIP supplement has been: (1) submitted formally to EPA for incorporation into the SIP and (2) evaluated by EPA, including any changes made by EGLE after the April 3, 2025, draft SIP supplement was submitted to EPA.

II. Background and Requirements for Regional Haze Plans

A detailed history and background of the regional haze program is provided in prior EPA proposal action.¹ For additional background on the 2017 RHR revisions, please refer to Section III. Overview of Visibility Protection Statutory Authority, Regulation, and Implementation of “Protection of Visibility: Amendments to Requirements for State Plans” of the 2017 RHR.² The following is an abbreviated history and background of the regional haze program and 2017 Regional Haze Rule as it applies to the current action.

¹ See 90 FR 13516 (March 24, 2025).

² See 82 FR 3078 (January 10, 2017).

A. Regional Haze Background

In the 1977 CAA Amendments, Congress created a program for protecting visibility in the nation's mandatory Class I Federal areas, which include certain national parks and wilderness areas.³ CAA 169A. The CAA establishes as a national goal the “prevention of any future, and the remedying of any existing, impairment of visibility in mandatory class I Federal areas which impairment results from manmade air pollution.” CAA 169A(a)(1).

³ Areas statutorily designated as mandatory Class I Federal areas consist of national parks exceeding 6,000 acres, wilderness areas and national memorial parks exceeding 5,000 acres, and all international parks that were in existence on August 7, 1977. CAA 162(a). There are 156 mandatory Class I areas. The list of areas to which the requirements of the visibility protection program apply is in 40 CFR part 81, subpart D.

Regional haze is visibility impairment that is produced by a multitude of anthropogenic sources and activities which are located across a broad geographic area and that emit pollutants that impair visibility. Visibility impairing pollutants include fine and coarse particulate matter (PM) (e.g., sulfates, nitrates, organic carbon, elemental carbon, and soil dust) and their precursors (e.g., sulfur dioxide (SO2), nitrogen oxides (NOX), and, in some cases, volatile organic compounds (VOC) and ammonia (NH3)). Fine particle precursors react in the atmosphere to form fine particulate matter (PM2.5), which impairs visibility by scattering and absorbing light. Visibility impairment reduces the perception of clarity and color, as well as visible distance.⁴

⁴ There are several ways to measure the amount of visibility impairment, i.e., haze. One such measurement is the deciview, which is the principal metric used by the RHR. Under many circumstances, a change in one deciview will be perceived by the human eye to be the same on both clear and hazy days. The deciview is unitless. It is proportional to the logarithm of the atmospheric extinction of light, which is the perceived dimming of light due to its being scattered and absorbed as it passes through the atmosphere. Atmospheric light extinction (bext) is a metric used for expressing visibility and is measured in inverse megameters (Mm⁻¹). The formula for the deciview is 10 ln (bext)/10 Mm⁻¹). 40 CFR 51.301.

To address regional haze visibility impairment, the 1999 RHR established an iterative planning process that requires both States in which Class I areas are located and States “the emissions from which may reasonably be anticipated to cause or contribute to any impairment of visibility” in a Class I area to periodically submit SIP revisions to address such impairment. CAA 169A(b)(2); ⁵ see also 40 CFR 51.308(b), (f) (establishing submission dates for iterative regional haze SIP revisions); (64 FR at 35768, July 1, 1999).

On January 10, 2017 (82 FR 3078), EPA promulgated revisions to the RHR, that apply for the second and subsequent implementation periods. The reasonable progress requirements as revised in the 2017 rulemaking (referred to here as the 2017 RHR Revisions) are codified at 40 CFR 51.308(f).

B. Roles of Agencies in Addressing Regional Haze

Five regional planning organizations (RPOs) were developed in the lead-up to the first implementation period to address regional haze. The Lake Michigan Air Directors Consortium (LADCO), one of the five RPOs, is a collaborative effort of State governments, Tribal governments, and various Federal agencies established to initiate and coordinate activities associated with the management of regional haze, visibility, and other air quality issues in the Midwest. LADCO member States are Illinois, Indiana, Michigan, Minnesota, Ohio, and Wisconsin. The LADCO Regional Haze Technical Workgroup also includes Tribes, Iowa, EPA, U.S. National Park Service (NPS), U.S. Fish and Wildlife Service (FWS), and U.S. Forest Service (USFS).

III. Requirements for Regional Haze Plans for the Second Implementation Period

Under the CAA and EPA's regulations, all 50 States, the District of Columbia, and the U.S. Virgin Islands are required to submit regional haze SIPs satisfying the applicable requirements for the second implementation period of the regional haze program by July 31, 2021. Each State's SIP must contain a long-term strategy for making reasonable progress toward meeting the national goal of remedying any existing and preventing any future anthropogenic visibility impairment in Class I areas. CAA 169A(b)(2)(B). To this end, 40 CFR 51.308(f) lays out the process by which States determine what constitutes their long-term strategies, with the order of the requirements in 40 CFR 51.308(f)(1) through (3) generally mirroring the order of the steps in the reasonable progress analysis ⁶ and (f)(4) through (6) containing additional, related requirements. Broadly speaking, a State first must identify the Class I areas within the State and determine the Class I areas outside the State in which visibility may be affected by emissions from the State. These are the Class I areas that must be addressed in the State's long-term strategy. See 40 CFR 51.308(f), (f)(2). For each Class I area within its borders, a State must then calculate the baseline (five-year average period of 2000-2004), current, and natural visibility conditions (i.e., visibility conditions without anthropogenic visibility impairment) for that area, as well as the visibility improvement made to date and the “uniform rate of progress” (URP). The URP is the linear rate of progress needed to attain natural visibility conditions, assuming a starting point of baseline visibility conditions in 2004 and ending with natural conditions in 2064. This linear interpolation is used as a tracking metric to help States assess the amount of progress they are making towards the national visibility goal over time in each Class I area. See 40 CFR 51.308(f)(1). Each State having a Class I area and/or emissions that may affect visibility in a Class I area must then develop a long-term strategy that includes the enforceable emission limitations, compliance schedules, and other measures that are necessary to make reasonable progress in such areas. A reasonable progress determination is based on applying the four factors in CAA section 169A(g)(1) to sources of visibility impairing pollutants that the State has selected to assess for controls for the second implementation period. Additionally, as further explained below, the RHR at 40 CFR 51.3108(f)(2)(iv) separately provides five “additional factors” ⁷ that States must consider in developing their long-term strategies. See 40 CFR 51.308(f)(2). A State evaluates potential emission reduction measures for those selected sources and determines which are necessary to make reasonable progress. Those measures are then incorporated into the State's long-term strategy. After a State has developed its long-term strategy, it then establishes RPGs for each Class I area within its borders by modeling the visibility impacts of all reasonable progress controls at the end of the second implementation period, i.e., in 2028, as well as the impacts of other requirements of the CAA. The RPGs include reasonable progress controls not only for sources in the State in which the Class I area is located, but also for sources in other States that contribute to visibility impairment in that area. The RPGs are then compared to the baseline visibility conditions and the URP to ensure that progress is being made towards the statutory goal of preventing any future and remedying any existing anthropogenic visibility impairment in Class I areas. 40 CFR 51.308(f)(2)-(3). There are additional requirements in the rule, including FLM consultation, that apply to all visibility protection SIPs and SIP revisions. See e.g., 40 CFR 51.308(i).

⁶ EPA explained in the 2017 RHR Revisions that we were adopting new regulatory language in 40 CFR 51.308(f) that, unlike the structure in 51.308(d), “tracked the actual planning sequence.” (82 FR 3091, January 10, 2017).

⁷ The five “additional factors” for consideration in 40 CFR51.308(f)(2)(iv) are distinct from the four factors listed in CAA section 169A(g)(1) and 40 CFR 51.308(f)(2)(i) that States must consider and apply to sources in determining reasonable progress.

A. Long-Term Strategy for Regional Haze

While States have discretion to choose any source selection methodology that is reasonable, whatever choices they make should be reasonably explained. To this end, 40 CFR 51.308(f)(2)(i) requires that a State's SIP submission include “a description of the criteria it used to determine which sources or groups of sources it evaluated.” The technical basis for source selection, which may include methods for quantifying potential visibility impacts such as emissions divided by distance metrics, trajectory analyses, residence time analyses, and/or photochemical modeling, must also be appropriately documented, as required by 40 CFR 51.308(f)(2)(iii).

Once a State has selected the set of sources, the next step is to determine the emissions reduction measures for those sources that are necessary to make reasonable progress for the second implementation period.⁸ This is accomplished by considering the four factors—“the costs of compliance, the time necessary for compliance, and the energy and non-air quality environmental impacts of compliance, and the remaining useful life of any existing source subject to such requirements.” CAA 169A(g)(1). EPA has explained that the four-factor analysis is an assessment of potential emission reduction measures (i.e., control options) for sources; “use of the terms `compliance' and `subject to such requirements' in section 169A(g)(1) strongly indicates that Congress intended the relevant determination to be the requirements with which sources would have to comply to satisfy the CAA's reasonable progress mandate.” 82 FR 3091. Thus, for each source it has selected for four-factor analysis,⁹ a State must consider a “meaningful set” of technically feasible control options for reducing emissions of visibility impairing pollutants. Id. at 3088.

⁸ The CAA provides that, “[i]n determining reasonable progress there shall be taken into consideration” the four statutory factors. CAA 169A(g)(1). However, in addition to four-factor analyses for selected sources, groups of sources, or source categories, a State may also consider additional emission reduction measures for inclusion in its long-term strategy, e.g., from other newly adopted, on-the-books, or on-the-way rules and measures for sources not selected for four-factor analysis for the second planning period.

⁹ “Each source” or “particular source” is used here as shorthand. While a source-specific analysis is one way of applying the four factors, neither the statute nor the RHR requires States to evaluate individual sources. Rather, States have “the flexibility to conduct four-factor analyses for specific sources, groups of sources or even entire source categories, depending on State policy preferences and the specific circumstances of each State.” 82 FR 3088.

EPA has also explained that, in addition to the four statutory factors, States have flexibility under the CAA and RHR to reasonably consider visibility benefits as an additional factor alongside the four statutory factors.¹⁰ Ultimately, while States have discretion to reasonably weigh the factors and to determine what level of control is needed, 40 CFR 51.308(f)(2)(i) provides that a State “must include in its implementation plan a description of . . . how the four factors were taken into consideration in selecting the measure for inclusion in its long-term strategy.”

¹⁰ See, e.g., Responses to Comments on Protection of Visibility: Amendments to Requirements for State Plans; Proposed Rule (81 FR 26942, May 4, 2016) (December 2016), Docket Number EPA-HQ-OAR-2015-0531, U.S. Environmental Protection Agency at 186.

As explained above, 40 CFR 51.308(f)(2)(i) requires States to determine the emission reduction measures for sources that are necessary to make reasonable progress by considering the four factors. Pursuant to 40 CFR 51.308(f)(2), measures that are necessary to make reasonable progress towards the national visibility goal must be included in a State's long-term strategy and in its SIP. If the outcome of a four-factor analysis is that an emissions reduction measure is necessary to make reasonable progress towards remedying existing or preventing future anthropogenic visibility impairment, that measure must be included in the SIP.

The characterization of information on each of the factors is also subject to the documentation requirement in 40 CFR 51.308(f)(2)(iii). The reasonable progress analysis is a technically complex exercise, and also a flexible one that provides States with bounded discretion to design and implement approaches appropriate to their circumstances. Given this flexibility, 40 CFR 51.308(f)(2)(iii) plays an important function in requiring a State to document the technical basis for its decision making so that the public and EPA can comprehend and evaluate the information and analysis the State relied upon to determine what emission reduction measures must be in place to make reasonable progress. The technical documentation must include the modeling, monitoring, cost, engineering, and emissions information on which the State relied to determine the measures necessary to make reasonable progress. Additionally, the RHR at 40 CFR 51.3108(f)(2)(iv) separately provides five “additional factors” ¹¹ that States must consider in developing their long-term strategies: (1) Emission reductions due to ongoing air pollution control programs, including measures to address reasonably attributable visibility impairment; (2) measures to reduce the impacts of construction activities; (3) source retirement and replacement schedules; (4) basic smoke management practices for prescribed fire used for agricultural and wildland vegetation management purposes and smoke management programs; and (5) the anticipated net effect on visibility due to projected changes in point, area, and mobile source emissions over the period addressed by the long-term strategy.

¹¹ The five “additional factors” for consideration in 40 CFR 51.308(f)(2)(iv) are distinct from the four factors listed in CAA section 169A(g)(1) and 40 CFR 51.308(f)(2)(i) that States must consider and apply to sources in determining reasonable progress.

Because the air pollution that causes regional haze crosses State boundaries, 40 CFR 51.308(f)(2)(ii) requires a State to consult with other States that also have emissions that are reasonably anticipated to contribute to visibility impairment in a given Class I area. If a State, pursuant to consultation, agrees that certain measures (e.g., a certain emission limitation) are necessary to make reasonable progress at a Class I area, it must include those measures in its SIP. 40 CFR 51.308(f)(2)(ii)(A). Additionally, the RHR requires that States that contribute to visibility impairment at the same Class I area consider the emission reduction measures the other contributing States have identified as being necessary to make reasonable progress for their own sources. 40 CFR 51.308(f)(2)(ii)(B). If a State has been asked to consider or adopt certain emission reduction measures, but ultimately determines those measures are not necessary to make reasonable progress, that State must document in its SIP the actions taken to resolve the disagreement. 40 CFR 51.308(f)(2)(ii)(C). Under all circumstances, a State must document in its SIP submission all substantive consultations with other contributing States. 40 CFR 51.308(f)(2)(ii)(C).

B. Reasonable Progress Goals (RPGs)

RPGs “measure the progress that is projected to be achieved by the control measures States have determined are necessary to make reasonable progress based on a four-factor analysis.” 82 FR 3091.

For the second implementation period, the RPGs are set for 2028. RPGs are not enforceable targets, 40 CFR 51.308(f)(3)(iii). While States are not legally obligated to achieve the visibility conditions described in their RPGs, 40 CFR 51.308(f)(3)(i) requires that “[t]he long-term strategy and the reasonable progress goals must provide for an improvement in visibility for the most impaired days since the baseline period and ensure no degradation in visibility for the clearest days since the baseline period.”

RPGs may also serve as a metric for assessing the amount of progress a State is making towards the national visibility goal. To support this approach, the RHR requires States with Class I areas to compare the 2028 RPG for the most impaired days to the corresponding point on the URP line (representing visibility conditions in 2028 if visibility were to improve at a linear rate from conditions in the baseline period of 2000-2004 to natural visibility conditions in 2064). If the most impaired days RPG in 2028 is above the URP (i.e., if visibility conditions are improving more slowly than the rate described by the URP), each State that contributes to visibility impairment in the Class I area must demonstrate, based on the four-factor analysis required under 40 CFR 51.308(f)(2)(i), that no additional emission reduction measures would be reasonable to include in its long-term strategy. 40 CFR 51.308(f)(3)(ii). To this end, 40 CFR 51.308(f)(3)(ii) requires that each State contributing to visibility impairment in a Class I area that is projected to improve more slowly than the URP provide “a robust demonstration, including documenting the criteria used to determine which sources or groups [of] sources were evaluated and how the four factors required by paragraph (f)(2)(i) were taken into consideration in selecting the measures for inclusion in its long-term strategy.”

C. Monitoring Strategy and Other SIP Requirements

Section 51.308(f)(6) requires States to have certain strategies and elements in place for assessing and reporting on visibility. Individual requirements under this section apply either to States with Class I areas within their borders, States with no Class I areas but that are reasonably anticipated to cause or contribute to visibility impairment in any Class I area, or both. Compliance with the monitoring strategy requirement may be met through a State's participation in the Interagency Monitoring of Protected Visual Environments (IMPROVE) monitoring network, which is used to measure visibility impairment caused by air pollution at the 156 Class I areas covered by the visibility program. 40 CFR 51.308(f)(6), (f)(6)(i), (f)(6)(iv).

All States' SIPs must provide for procedures by which monitoring data and other information are used to determine the contribution of emissions from within the State to regional haze visibility impairment in affected Class I areas, as well as a statewide inventory documenting such emissions. 40 CFR 51.308(f)(6)(ii), (iii), (v). All States' SIPs must also provide for any other elements, including reporting, recordkeeping, and other measures, that are necessary for States to assess and report on visibility. 40 CFR 51.308(f)(6)(vi).

D. Requirements for Periodic Reports Describing Progress Towards the RPGs

Section 51.308(f)(5) requires a State's regional haze SIP revision to address the requirements of paragraphs 40 CFR 51.308(g)(1) through (5) so that the plan revision due in 2021 will serve also as a progress report addressing the period since submission of the progress report for the first implementation period. The regional haze progress report requirement is designed to inform the public and EPA about a State's implementation of its existing long-term strategy and whether such implementation is in fact resulting in the expected visibility improvement. See 81 FR 26942, 26950 (May 4, 2016), (82 FR 3119, January 10, 2017). To this end, every State's SIP revision for the second implementation period is required to assess changes in visibility conditions and describe the status of implementation of all measures included in the State's long-term strategy, including BART and reasonable progress emission reduction measures from the first implementation period, and the resulting emissions reductions. 40 CFR 51.308(g)(1) and (2).

E. Requirements for State and Federal Land Manager Coordination

CAA section 169A(d) requires that before a State holds a public hearing on a proposed regional haze SIP revision, it must consult with the appropriate FLM or FLMs; pursuant to that consultation, the State must include a summary of the FLMs' conclusions and recommendations in the notice to the public. Consistent with this statutory requirement, the RHR also requires that States “provide the [FLM] with an opportunity for consultation, in person and at a point early enough in the State's policy analyses of its long-term strategy emission reduction obligation so that information and recommendations provided by the [FLM] can meaningfully inform the State's decisions on the long-term strategy.” 40 CFR 51.308(i)(2). For EPA to evaluate whether FLM consultation meeting the requirements of the RHR has occurred, the SIP submission should include documentation of the timing and content of such consultation. The SIP revision submitted to EPA must also describe how the State addressed any comments provided by the FLMs. 40 CFR 51.308(i)(3). Finally, a SIP revision must provide procedures for continuing consultation between the State and FLMs regarding the State's visibility protection program, including development and review of SIP revisions, five-year progress reports, and the implementation of other programs having the potential to contribute to impairment of visibility in Class I areas. 40 CFR 51.308(i)(4).

IV. EPA's Evaluation of EGLE's Regional Haze Submission for the Second Implementation Period

A. Background on EGLE's First Implementation Period SIP Submission

Please see section 2 of the May 22, 2025, technical support document (TSD) accompanying this rule for background on EGLE's first implementation period plan.

B. EGLE's Second Implementation Period SIP Submission and EPA's Evaluation

In accordance with CAA section 169A and the RHR at 40 CFR 51.308(f), on August 23, 2021, and supplemented on April 3, 2025, EGLE submitted a revision to the Michigan SIP to address its regional haze obligations for the second implementation period that runs through 2028.

The following sections describe EGLE's SIP submission, including analyses conducted by LADCO and EGLE's determinations based on those analyses, EGLE's assessment of progress made since the first implementation period in reducing emissions of visibility impairing pollutants, and the visibility improvement progress at its Class I areas and nearby Class I areas. This proposed rulemaking and the accompanying May 22, 2025, TSD also contain EPA's evaluation of EGLE's submission against the requirements of the CAA and RHR for the second implementation period of the regional haze program.

C. Identification of Class I Areas

Section 169A(b)(2) of the CAA requires each State in which any Class I area is located or “the emissions from which may reasonably be anticipated to cause or contribute to any impairment of visibility” in a Class I area to have a plan for making reasonable progress toward the national visibility goal. The RHR implements this statutory requirement at 40 CFR 51.308(f), which provides that each State's plan “must address regional haze in each mandatory Class I Federal area located within the State and in each mandatory Class I Federal area located outside the State that may be affected by emissions from within the State,” and paragraph (f)(2), which requires each State's plan to include a long-term strategy that addresses regional haze in such Class I areas.

Michigan has two mandatory Class I Federal areas: Isle Royale National Park (Isle Royale) and Seney National Wildlife Refuge (Seney). LADCO performed a technical analysis to help assess state-level contributions to visibility impairment at Class I areas for the second implementation period. EGLE provided the analysis in section 2.1, Tables 6 and 7 of its supplement.

Based on LADCO's source apportionment modeling results for 2028, Michigan was projected to have the greatest visibility impact on the Class I areas within the State, Seney and Isle Royale, contributing an estimated 3.4 Mm⁻¹ and 1.7 Mm⁻¹ of visibility impairment, respectively. This represents about 6.0 percent of the total light extinction at Seney and 3.5 percent at Isle Royale. Michigan also identified 13 out-of-state Class I areas where Michigan's contribution to the total light extinction was 1 percent or greater. In addition, Michigan identified the two Class I areas in Minnesota since they are also located within LADCO, although the projected impacts to these out-of-state areas are less than 1 percent at both Voyageurs National Park and Boundary Waters Canoe Area Wilderness (0.2 Mm⁻¹ and 0.3 Mm⁻¹ impairment, respectively).

D. Calculations of Baseline, Current, and Natural Visibility Conditions; Progress to Date; and the Uniform Rate of Progress

The regulation at 40 CFR 51.308(f)(1) requires States to determine the following for “each mandatory Class I Federal area located within the State”: baseline visibility conditions for the most impaired and clearest days, natural visibility conditions for the most impaired and clearest days, progress to date for the most impaired and clearest days, the differences between current visibility conditions and natural visibility conditions, and the URP. This section also provides the option for States to propose adjustments to the URP line for a Class I area to account for visibility impacts from anthropogenic sources outside the United States and/or the impacts from wildland prescribed fires that were conducted for certain, specified objectives. 40 CFR 51.308(f)(1)(vi)(B).

EGLE provided this analysis for Isle Royale and Seney in section 2 of its 2021 submission with updates in section 6 of its supplement. The 2002 to 2004 observed baseline visibility conditions for Isle Royale are 6.77 deciviews (dv) on the 20 percent clearest days and 19.63 dv on the 20 percent most impaired days. For Seney, the baseline visibility is 7.14 dv on the 20 percent clearest days and 23.58 dv on the 20 percent most impaired days. The natural conditions at Isle Royale are 3.72 dv on the 20 percent clearest days and 10.17 dv on the 20 percent most impaired days. Natural conditions at Seney are 3.74 dv on the 20 percent clearest days and 11.11 dv on the 20 percent most impaired days. Current conditions, based on 2014 to 2018 monitoring data, at Isle Royale are 15.54 dv on the 20 percent most impaired days and 5.30 dv on the 20 percent clearest days. At Seney, the current conditions, based on 2014 to 2018 monitoring data, are 17.57 dv on the 20 percent most impaired days and 5.27 dv on the 20 percent clearest days. Based on the ambient data trends, steady progress towards natural conditions is being made at both Isle Royale and Seney.

EGLE calculated the URP for the Class I areas for 2028 using LADCO's 2016 base year modeling. The 2028 URP is 15.85 dv at Isle Royale and 18.59 dv at Seney on the most impaired days. EGLE projects 14.83 dv impairment at Isle Royale and 16.67 dv at Seney on the most impaired days, which are 1.02 dv and 1.92 dv below the URP, respectively.

EPA proposes to find that EGLE has submitted a regional haze plan that meets the requirements of 40 CFR 51.308(f)(1) related to the calculations of baseline, current, and natural visibility conditions; progress to date; and the URP for the second implementation period.

E. Long-Term Strategy for Regional Haze

1. Emission Measures Necessary To Make Reasonable Progress

Each State having a Class I area within its borders or emissions that may affect visibility in a Class I area must develop a long-term strategy for making reasonable progress towards the national visibility goal. CAA 169A(b)(2)(B). After considering the four statutory factors, all measures that are determined to be necessary to make reasonable progress must be in the long-term strategy. In developing its long-term strategies, a State must also consider the five additional factors in 40 CFR 51.308(f)(2)(iv). As part of its reasonable progress determinations, the State must describe the criteria used to determine which sources or group of sources were evaluated (i.e., subjected to four-factor analysis) for the second implementation period and how the four factors were taken into consideration in selecting the emission reduction measures for inclusion in the long-term strategy. 40 CFR 51.308(f)(2)(iii).

EGLE details its measures necessary to make reasonable progress in section 5.2 of its supplement. EGLE's long-term strategy includes VOC Control Techniques, National Emission Standards for Hazardous Air Pollutants for some source categories, New Source Performance Standards for solid waste incinerators and for residential wood heaters, Federal onroad mobile sources rules, and several Federal non-road mobile sources rules among other Federal measures.

EGLE's supplement builds on the long-term strategy presented in EGLE's August 23, 2021, submission. In developing its long-term strategy, EGLE considered both the four-factor analyses under 40 CFR 51.308(f)(2)(i) and the five additional factors under 40 CFR 51.308(f)(2)(iv). As required by 51.308(f)(2)(iv)(A), EGLE considered emission reductions due to ongoing air pollution control programs, referring to Federal emission control programs and documenting emission reductions at its sources that have reduced visibility impact at all Class I areas. As required by 40 CFR 51.308(f)(2)(iv)(B), EGLE noted its measures to mitigate the impacts of construction activities. Pursuant to 40 CFR 51.308(f)(2)(iv)(C), EGLE addressed schedules for source retirements and replacements. EGLE remarked that any major stationary source upon restart is subject to permitting as a new source and must comply with requirements pertaining to New Source Review and Prevention of Significant Deterioration.¹² To satisfy the requirements of 40 CFR 51.308(f)(2)(iv)(D), EGLE considered smoke management techniques for the purposes of agricultural and forestry management in developing its long-term strategy. EGLE determined that emissions from prescribed fires are not significantly affecting Class I areas in Michigan. Thus, EGLE considered its smoke management strategy to be adequate for long-term progress. Additionally, as required by 40 CFR 51.308(f)(2)(iv)(E), EGLE considered the anticipated net effect on visibility improvements due to projected changes in emissions from point, area, and mobile sources during the second implementation period, explaining that the visibility improvement expected was estimated using LADCO's 2016 base year and 2028 modeled projections. Given the information EGLE provided in this regard, EPA proposes to find that Michigan reasonably considered and satisfied the requirements for each of the five additional factors in 40 CFR 51.308(f)(2)(iv) in developing its long-term strategy.

¹² See “Affirmation of EPA's Long-Standing Reactivation Policy” in Attachment 2 of the November 16, 2022, memo from Joseph Goffman, EPA, Principal Deputy Assistant Administrator.

2. EPA's Evaluation of EGLE's Compliance With 40 CFR 51.308(f)(2)(i)

The requirements of 40 CFR 51.308(f)(2)(i) relate to evaluating sources and determining the emission reduction measures that are necessary to make reasonable progress by considering the four statutory factors.

Considering the four statutory factors, current effective control technologies, emission reductions that have already occurred during the second implementation period, and projected 2028 visibility conditions for Class I areas influenced by emissions from Michigan sources are all below the URP in 2028, EPA also finds it reasonable to conclude that no additional measures are necessary to make reasonable progress in the second implementation period. As detailed further later in this rule, EPA proposes to approve EGLE's long-term strategy under 40 CFR 51.308(f)(2).

In line with recent proposals from EPA,¹³ it is the Agency's policy that, where visibility conditions for a Class I area impacted by a State are below the URP and the State has considered the four statutory factors, the State will have presumptively demonstrated reasonable progress for the second implementation period for that Class I area. As previously discussed, for each Class I area, there is a regulatory requirement to compare the projected visibility impairment (represented by the RPG) at the end of each implementation period to the URP (e.g., in 2028 for the second implementation period).¹⁴

¹³ 90 FR 16478, April 18, 2025; see pages 16483 and 16484.

¹⁴ We note that RPGs are a regulatory construct that we developed to address statutory mandate in section 169B(e)(1), which required our regulations to include “criteria for measuring `reasonable progress' toward the national goal.” Under 40 CFR 51.308(f)(3)(ii), RPGs measure the progress that is projected to be achieved by the control measures a State has determined are necessary to make reasonable progress. Consistent with the 1999 RHR, the RPGs are unenforceable, though they create a benchmark that allows for analytical comparisons to the URP and mid-implementation-period course corrections if necessary. 82 FR 3091-3092.

EPA's new policy is that so long as the Class I areas impacted by a State are below the URP and the State considers the four factors, the State will have presumptively demonstrated it has already made reasonable progress for the second implementation period for that area. EPA believes this policy also recognizes the considerable improvements in visibility impairment that have been made by a wide variety of State and Federal programs in recent decades.

Applying this new policy in our evaluation of EGLE's plan and as further detailed in the paragraphs that follow, EPA agrees with EGLE's determination that, for the second implementation period, no additional measures are necessary to achieve reasonable progress towards natural visibility at Class I areas both in Michigan and other States that are influenced by emissions from Michigan sources.

The SIP submission included evaluations for 19 emissions sources, including consideration of the four statutory factors for three facilities and consideration of existing control measures and emission reductions at 16 facilities. Based on these evaluations and analyses, EGLE did not submit to EPA any additional measures for reasonable progress. In reaching this determination, EGLE also considered the emissions reductions and visibility improvements that have already occurred in the second implementation period in nearby Class I areas.

EGLE generated a list of sources based on total process-level emissions (Q) divided by distance (d) to the nearest Class I area, where Q/d was used as a surrogate quantitative metric of visibility impact in lieu of air quality modeling results. For Q, EGLE used the combined emissions of NOX, SO2, PM2.5, VOC, and NH3 for its unit and facility emissions. EGLE selected sources to capture approximately 80 percent of NOX and SO2 emissions from all sources statewide as detailed in section 3.2.2 of its supplement. To capture 80 percent of NOX and SO2 emissions, EGLE set a pollutant specific Q/d threshold of greater than six at the unit level for NOX or SO2 emissions. That Q/d threshold identified 11 sources that have since experienced permanent emission reductions representing 30 percent of the NOX and 65 percent of the SO2 from all units in the second implementation period with a sum Q/d of 1 or greater based on the 2016 inventory. EGLE then selected the remaining 13 units at eight facilities for potential further analysis. EGLE selected Tilden Mining Company, Kilns 1 and 2, St. Clair/Belle River Power Plant, Belle River Units 1 and 2, Empire Iron Mining Partnership, Units 2, 3, and 4, St. Mary's Cement, Inc., Charlevoix Plant, Compiled Kiln, Holcim (US) Inc., DBA Lafarge Alpena Plant, Kilns 22 and 23, Billerud Escanaba LLC, Number 11 Power Boiler, Neenah Paper Michigan Inc., Munising, Boiler 1, and Graymont Western Lime, Inc., Kiln 1. EGLE provided this information on Tables 8 and 9 in section 3.2.2 of its supplement. EPA further summarizes EGLE's source selection in section 3 of the May 22, 2025, TSD.

From the list of selected sources, EGLE determined that several of the facilities either have idled indefinitely or have existing effective controls. EGLE selected the remaining three sources for a four-factor analysis for potential emissions controls. EGLE provided this information in section 3.3 of its supplement.

EGLE performed four-factor analyses on the three selected sources to address the requirements of 40 CFR 51.308(f)(2)(i). For each four-factor analysis, EGLE considered the cost of compliance, time necessary to install the controls, energy and non-air impacts, and remaining useful life of the sources. See CAA 169A(g)(1). Those analyses for Billerud Escanaba LLC, Graymont Western Lime Inc., and Tilden Mining Company are given in sections 4.1, 4.2, and 4.3 of EGLE's supplement. Upon considering the four statutory factors, EGLE ultimately determined that no additional controls were necessary for reasonable progress for the second implementation period. EGLE found no new measures to be cost effective for Billerud Escanaba LLC. For Graymont Western Lime Inc., EGLE determined fuel substitution to be a potentially cost-effective measure but expects “a minimal or potentially unfavorable impact” on annual NOX emissions and thus EGLE eliminated that measure. EGLE determined no new control measures on Tilden Kiln 2 are necessary to make reasonable progress based on a finding of negligible visibility improvement at both Isle Royale and Seney. See section 4 of the May 22, 2025, TSD for details of the emission control measures evaluated. EPA concludes that EGLE appropriately considered the four statutory factors and determined additional controls were not cost-effective for the second implementation period.

EGLE evaluated the on-the-books and on-the-way controls and did not request for any of those measures to be incorporated by reference into the regulatory portion of Michigan's SIP at 40 CFR 52.1170.

EPA proposes to find that EGLE has satisfied the requirements of 40 CFR 51.308(f)(2)(i) related to evaluating sources and determining the emission reduction measures that are necessary to make reasonable progress by applying the four statutory factors to sources in a control analysis. EGLE's SIP submission reasonably applied their source selection process, identifying sources accounting for approximately 80 percent of NOX and SO2 emissions. In addition, EGLE adequately explained its decision to focus on the two pollutants, SO2 and NOX, that currently drive visibility impairment within the LADCO region. EPA proposes to find that EGLE adequately supported its conclusions for its top-impacting sources in determining that no additional measures are necessary for reasonable progress in the second implementation period. EPA is basing this proposed finding on EGLE's consideration of the four statutory factors, the projected 2028 visibility conditions for Class I areas, both in Michigan and influenced by emissions from Michigan sources, which are all below the URP in 2028, emission reductions that have already occurred during the second implementation period, and current effective control technologies.

EPA proposes to find that EGLE's 2021 SIP submission and draft SIP supplement meets the CAA and regulatory requirement to make reasonable progress towards the national visibility goal. No measures are proposed to be incorporated by reference into the Michigan SIP.

F. RPGs

Section 51.308(f)(3) contains the requirements pertaining to RPGs for each Class I area. Michigan contains two Class I areas, making it subject to 40 CFR 51.308(f)(3)(i). Section 51.308(f)(3)(i) requires a State in which a Class I area is located to establish RPGs—one each for the most impaired and clearest days—reflecting the visibility conditions that will be achieved at the end of the implementation period as a result of the emission limitations, compliance schedules and other measures required under paragraph (f)(2) to be in States' long-term strategies, as well as implementation of other CAA requirements. The long-term strategies as reflected by the RPGs must provide for an improvement in visibility on the most impaired days relative to the baseline period and ensure no degradation on the clearest days relative to the baseline period. Section 51.308(f)(3)(ii)(B) requires that if a State contains sources that are reasonably anticipated to contribute to visibility impairment in a Class I area in another State, and the RPG for the most impaired days in that Class I area is above the URP, the upwind State must provide the same demonstration.

EGLE determined the RPGs using EPA's inventory and modeling provided by LADCO. LADCO used the National Emissions Inventory Collaborative's 2016 emissions inventory with updates to project 2028 emissions.

According to that modeling, the 2028 RPGs for the 20 percent most impaired days are 14.83 dv for Isle Royale and 16.67 dv for Seney. The 2028 RPGs for the 20 percent clearest days are 5.23 dv for Isle Royale and 5.17 dv for Seney. See section 6 of the supplement including Tables 32 and 33. EGLE included these RPGs in its regional haze plan for the second implementation period. EGLE's long-term strategy and the RPGs provide for an improvement in visibility for the most impaired days since the baseline period and ensure no degradation in visibility for the clearest days since the baseline period, in accordance with 40 CFR 51.308(f)(3)(i).

Section 51.308(f)(3)(i) also specifies that RPGs must reflect “enforceable emissions limitations, compliance schedules, and other measures required under paragraph (f)(2) of this section” (emphasis added). EPA interprets this provision as requiring that only emission reduction measures that States—including upwind States—have determined to be necessary for reasonable progress and incorporated into their long-term strategies be reflected in a Class I area's RPGs. This ensures that RPGs include only those measures that are reasonably certain to be implemented.

The RHR at 40 CFR 51.308(f)(3)(iii) notes that the RPGs are not directly enforceable but will be considered by the Administrator in evaluating the adequacy of the measures in the implementation plan in providing for reasonable progress towards achieving natural visibility conditions at that area.

Under 40 CFR 51.308(f)(3)(ii)(A), a State with a Class I area that establishes an RPG for the most impaired days that provides for a slower rate of improvement in visibility than the URP must calculate the number of years required to reach natural conditions. The demonstration requirement under 40 CFR 51.308(f)(3)(ii)(A) is not triggered because EGLE's RPGs are below the URP.

Under 40 CFR 51.308(f)(3)(ii)(B), if a State contains sources that are reasonably anticipated to contribute to visibility impairment in a Class I area in another State for which a demonstration by the other State is required, then the State must demonstrate that there are no additional emission reduction measures that would be reasonable to include in its long-term strategy. The out-of-state Class I areas with 2028 projected contributions to total visibility impairment greater than 1 percent from Michigan that are listed in Table 7 of the supplement are well below the URP. Thus, EPA proposes to conclude that the demonstration requirement under 40 CFR 51.308(f)(3)(ii)(B) is not triggered.

In sum, EPA proposes to determine that EGLE has satisfied the applicable requirements of 40 CFR 51.308(f)(3) relating to RPGs.

G. Monitoring Strategy and Other Implementation Plan Requirements

Section 51.308(f)(6) specifies that each comprehensive revision of a State's regional haze SIP must contain or provide for certain elements, including monitoring strategies, emissions inventories, and any reporting, recordkeeping and other measures needed to assess and report on visibility. A main requirement of this subsection is for States with Class I areas to submit monitoring strategies for measuring, characterizing, and reporting on visibility impairment. Compliance with this requirement may be met through participation in the IMPROVE network.

EGLE uses its participation in the IMPROVE program ¹⁵ to meet the 40 CFR 51.308(f)(6) monitoring strategy requirements. See section H.3 of EGLE's submission.

¹⁵ The IMPROVE sites also provide PM2.5 speciation data. Therefore, these sites are a key component of EPA's national fine particle monitoring in addition to being critical to tracking progress related to regional haze regulations.

The obligations of 40 CFR 51.308(f)(6)(iii) only apply to States without a Class I area, requiring procedures for using monitoring data in determining the contribution of emissions to visibility impairment at Class I areas in other States. Michigan has Class I areas, so this requirement does not apply.

Section 51.308(f)(6)(iv) requires the SIP to provide for the reporting of all visibility monitoring data to the Administrator at least annually for each Class I area in the State. EGLE backs the IMPROVE monitoring network as stated in H.3 of EGLE's submission.

Section 51.308(f)(6)(v) requires SIPs to provide for a statewide inventory of emissions of pollutants that are reasonably anticipated to cause or contribute to visibility impairment, including emissions for the most recent year for which data are available and estimates of future projected emissions. EGLE included LADCO's emission inventories in its plan. The emissions inventory includes VOC, NOX, PM2.5, NH3, and SO2. See appendix 2 of EGLE's supplement.

The provisions of 40 CFR 51.308(f)(6)(v) also require States to include estimates of future projected emissions and include a commitment to update the inventory periodically. EGLE produces inventories meeting Federal requirements as noted in H.3 of EGLE's submission.

The provisions of 40 CFR 51.308(f)(6)(vi) require a State to consider other elements necessary to assess and report on visibility, including reporting and recordkeeping. EGLE has met the other applicable requirements of 40 CFR 51.308(f)(6), therefore no further elements are necessary for it to assess and report on visibility pursuant to 40 CFR 51.308(f)(6)(vi).

EPA proposes to find that EGLE has met the requirements of 40 CFR 51.308(f)(6) through its continued participation in the IMPROVE network, its contribution analysis, its emissions reporting to EPA, and its statewide emissions inventory.

H. Requirements for Periodic Reports Describing Progress Towards the RPGs

Section 51.308(f)(5) requires that periodic comprehensive revisions of States' regional haze plans also address the progress report requirements of 40 CFR 51.308(g)(1) through (5). The purpose of these requirements is to evaluate progress towards the applicable RPGs for each Class I area within the State and each Class I area outside the State that may be affected by emissions from within that State. Applying to all States, 40 CFR 51.308(g)(1) and (2) require a description of the status of implementation of all measures included in a State's first implementation period regional haze plan and a summary of the emission reductions achieved through implementation of those measures. The regulations in 40 CFR 51.308(g)(3) apply only to States with Class I areas within their borders and require such States to assess current visibility conditions, changes in visibility relative to baseline (2000 to 2004) visibility conditions, and changes in visibility conditions relative to the period addressed in the first implementation period progress report. The regulations in 40 CFR 51.308(g)(4) apply to all States and require an analysis tracking changes in emissions of pollutants contributing to visibility impairment from all sources and sectors since the period addressed by the first implementation period progress report. This provision further specifies the year or years through which the analysis must extend depending on the type of source and the platform through which its emission information is reported. Finally, 40 CFR 51.308(g)(5), which also applies to all States, requires an assessment of whether any significant changes in anthropogenic emissions within or outside the State have occurred since the period addressed by the first implementation period progress report, including whether such changes were anticipated and whether they have limited or impeded expected progress towards reducing emissions and improving visibility.

EGLE submitted its previous progress report on January 12, 2016, which covered visibility data through 2014. Thus, EGLE's progress report covers the period of 2015 to 2019.

EGLE, in section 8.3 of its supplement, provides its progress report for the second half of the first period. EGLE describes the status of emission reduction measures from the first implementation period as required by 40 CFR 51.308(g)(1). EGLE gives the status of emission reduction measures at Holcim US DBA Lafarge Alpena Plant, Billerud Escanaba, LLC, Saint Mary's Cement—Charlevoix Plant, Smurfit Stone Container Corporation, and Tilden Mining Company, LLC. In section 8.3.2 of the supplement, EGLE gives the annual NOX and SO2 emissions for each non-EGU source to summarize the emission reductions from regional haze strategies as required by 40 CFR 51.308(g)(2).

EPA proposes to find that EGLE has met the requirements of 40 CFR 51.308(g)(1) and (2) because its submission gives the status of implementation of first period emission reduction measures and a summary of the emission reductions achieved through such implementation.

States are required by 40 CFR 51.308(g)(3) to assess the visibility progress of its Class I areas. In section 8.3.3 of its supplement, EGLE provided the 2014 and 2019 IMPROVE visibility data for its Class I areas demonstrating improvement in visibility during both the clearest and most impaired days. In 2019, the IMPROVE monitor at Isle Royale demonstrated a 5-year average light extinction of 14.9 dv, down from 17.3 dv in 2014 for the most impaired days. Light extinction at Seney also decreased from 19.5 dv to 17.1 dv over the same time period. For the clearest days, Isle Royale's average light extinction decreased from 5.5 dv in 2014 to 5.1 dv in 2019. Similarly, light extinction Seney also decreased from 5.5 dv to 5.1 dv over the same period. EPA proposes to find that EGLE has satisfied the requirements of 40 CFR 51.308(g)(3).

Pursuant to 40 CFR 51.308(g)(4), EGLE provided LADCO's emission inventories in appendix 2 to its supplement. LADCO gives the 2011 and 2016 NH3, NOX, PM2.5, SO2, and VOC emissions from all sources and activities, including from point, nonpoint, non-road mobile, and on-road mobile sources for Michigan and the other five States. EPA proposes to find that EGLE has satisfied the requirements of 40 CFR 51.308(g)(4) by providing emissions information for NH3, NOX, PM2.5, SO2, and VOC emissions by source type.

As for the requirement of 40 CFR 51.308(g)(5) to give an assessment of changes impeding visibility progress, EGLE evaluated contributions within and outside the State. EGLE states in section 8.3.4.3 of its supplement that it does not anticipate any significant changes in emissions within and from outside Michigan. EGLE remarked that while there have been increases in NOX and SO2 emissions between 2014 and 2019 in some source categories within Michigan and in other States, it does not expect any impediment in visibility progress given the substantial emission reductions from other sources that have occurred during the second implementation period. EPA proposes to find that EGLE has met the requirements of 40 CFR 51.308(g)(5).

I. Requirements for State and Federal Land Manager Coordination

Section 169A(d) of the CAA requires States to consult with FLMs before holding the public hearing on a proposed regional haze SIP, and to include a summary of the FLMs' conclusions and recommendations in the notice to the public. In addition, 40 CFR 51.308(i)(2)'s FLM consultation provision requires a State to provide FLMs with an opportunity for consultation that is early enough in the State's policy analyses of its emission reduction obligation so that information and recommendations provided by the FLMs can meaningfully inform the State's decisions on its long-term strategy. If the consultation has taken place at least 120 days before a public hearing or public comment period, the opportunity for consultation will be deemed early enough. Regardless, the opportunity for consultation must be provided at least 60 days before a public hearing or public comment period at the State level. Section 51.308(i)(2) provides two substantive topics on which FLMs must be provided an opportunity to discuss with States: assessment of visibility impairment in any Class I area and recommendations on the development and implementation of strategies to address visibility impairment. Section 51.308(i)(3) requires States, in developing their implementation plans, to include a description of how they addressed FLMs' comments.

EGLE provided its February 2021 draft Regional Haze plan to the USFS, FWS, and the NPS for a 60-day review and comment period pursuant to 40 CFR 51.308(i)(2). A FLM consultation meeting was held on April 29, 2021.

On December 19, 2024, EGLE provided its regional haze plan supplement to USFS, FWS, and the NPS for a 60-day review and comment period. A consultation meeting was held on February 12, 2025. EGLE provided the FLM comments in appendix 30 of the supplement and its responses in appendix 32. EPA proposes to find that EGLE has satisfied the requirements under 40 CFR 51.308(i) to consult with the FLMs on its Regional Haze SIP for the second implementation period.

EGLE published the public notice for the proposed update to Michigan's Regional Haze SIP on its website on May 17, 2021. The public comment period ran until June 30, 2021. A summary of the FLM and public comments along with EGLE's responses is found in the EGLE submission appendix D with the comments supplied in appendix E.

EGLE published the public notice for a supplement to Michigan's Regional Haze SIP on its website on March 10, 2025. The public comment period on the supplement was from March 10, 2025, to April 22, 2025.

V. What action is EPA taking?

EPA is proposing to approve the Regional Haze SIP revision submitted by EGLE on August 23, 2021, and supplemented on April 3, 2025, as satisfying applicable requirements under the CAA and RHR for the program's second implementation period.

VI. Statutory and Executive Order Reviews

Under the CAA, the Administrator is required to approve a SIP submission that complies with the provisions of the CAA and applicable Federal regulations. 42 U.S.C. 7410(k); 40 CFR 52.02(a). Thus, in reviewing SIP submissions, EPA's role is to approve State choices, provided that they meet the criteria of the CAA. Accordingly, this action merely approves State law as meeting Federal requirements and does not impose additional requirements beyond those imposed by State law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rulemaking does not have Tribal implications and will not impose substantial direct costs on Tribal governments or preempt Tribal law as specified by Executive Order 13175 (65 FR 67249, November 9, 2000).

List of Subjects in 40 CFR Part 52

Environmental protection, Air pollution control, Incorporation by reference, Intergovernmental relations, Nitrogen dioxide, Reporting and recordkeeping requirements, Sulfur oxides.

Dated: June 2, 2025.
Anne Vogel,
Regional Administrator, Region 5.

[FR Doc. 2025-11257 Filed 6-17-25; 8:45 am]

BILLING CODE 6560-50-P